DEPARTMENT OF TRANSPORTATION

Federal Aviation Administration

14 CFR Part 71

[Docket No. FAA-2013-0002; Airspace Docket No. 12-ASO-46]

Establishment of Class E Airspace; Umatilla, FL

AGENCY: Federal Aviation Administration (FAA), DOT.

ACTION: Final rule: correction.

SUMMARY: This action corrects the geographic coordinates in the airspace description of a final rule, published in the Federal Register on August 23, 2013, establishing controlled airspace at Umatilla Municipal Airport, Umatilla, FL.

DATES: Effective 0901 UTC, December 12, 2013. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On August 23, 2013, the FAA published a final rule in the Federal Register establishing Class E airspace at Umatilla Municipal Airport, Umatilla, FL (78 FR 52425). After publication, the FAA found that the geographic coordinates of the airport were incorrect. The longitude coordinate is corrected from “long. 82°39′07″ W.” to “long. 81°39′07″ W.”

Correction to Final Rule

Accordingly, pursuant to the authority delegated to me, amendatory instruction 2 and the geographic coordinates listed in the airspace designation of the Class E airspace for Umatilla Municipal Airport, Umatilla, FL, as published in the Federal Register of August 23, 2013, (78 FR 52425), FR Doc. 2013-20512, are corrected as follows:

PART 71 [AMENDED]

1. On page 52425, column 3, revise amendatory instruction 2 to read: The incorporation by reference in 14 CFR 71.1 of the Federal Aviation Administration Order 7400.9X, Airspace Designations and Reporting Points, dated August 7, 2013, and effective September 15, 2013, is amended as follows:

ASO FL E5 Umatilla, FL [Corrected]

2. On page 52425, column 3, line 59, remove, “lat. 28°55′27″ N., long. 82°39′07″ W”, and insert “lat. 28°55′27″ N., long. 81°39′07″ W”.

Issued in College Park, Georgia, on November 20, 2013.
Kip B. Johns,
Manager, Operations Support Group, Eastern Service Center, Air Traffic Organization.

[FR Doc. 2013-28758 Filed 11-29-13; 8:45 am]

BILLING CODE 4910-13-P